DEPARTMENT OF HEALTH AND HUMAN SERVICES

Centers for Disease Control and Prevention

[30Day-11-11BH]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

The Division of Behavior Surveillance (DBS) Gulf States Population Survey—New—Public Health Surveillance Program Office (PHSPO), Office of Surveillance, Epidemiology, and Laboratory Services (OSELS), Centers for Disease Control and Prevention (CDC).

Background and Brief Description

On April 20, 2010, the BP Deepwater Horizon oil rig exploded in the Gulf of Mexico spilling more than 4.9 million barrels of oil into the Gulf. The lives and livelihoods of persons residing in the Gulf coastal communities were affected by this event due to loss of work, disruption in the fishing and tourism industries, and the effect on the physical environment in which they live.

An ongoing public health concern following the spill is the effect on the mental and behavioral health of populations living in and around the Gulf region and access to the mental health services required to meet that need.

On October 7, 2010 the Office of Management and Budget (OMB) granted emergency clearance (OMB control # 0920-0868, expiration date April 30, 2011) to CDC's Public Health Surveillance Program Office (PHSPO), Division of Behavioral Surveillance (DBS) to conduct a survey to monitor the mental and behavioral health status of this affected population. Data collection for the DBS Gulf States Population Survey began on December 14, 2010 and will continue monthly for a one-year period. No data were collected from October 2010 to December 13, 2010, because the sampling and data collecting contracts had not been awarded.

Using the existing capacity and infrastructure of the Behavioral Risk Factor Surveillance System (BRFSS), DBS implemented a standalone survey designed to monitor mental and behavioral health indicators in the adult population in selected coastal counties affected by the oil spill. The survey includes health related questions taken from the ongoing BRFSS as well as additional questions taken from standardized scales or from other surveys designed to measure anxiety, depression, and potential stress-associated physical health effects.

The survey questionnaire was developed by DBS in partnership with the Substance Abuse and Mental Health Services Administration (SAMHSA) and state public health and mental health departments from Louisiana, Mississippi, Alabama, and Florida, where the survey is being conducted.

Coastal counties within 32 miles of an area where fishing was closed due to the Deepwater Horizon Event were selected for inclusion. These include the following Gulf coast counties:

Louisiana: Assumption Parish, Calcasieu Parish, Cameron Parish, Iberia Parish, Jefferson Parish, Jefferson Davis Parish, Lafourche Parish, Orleans Parish, Plaquemines Parish, St. Bernard Parish, St. Charles Parish, St. Mary Parish, St. Tammany Parish, Tangipahoa Parish, Terrebonne Parish, Vermilion Parish

Mississippi: Hancock County, Harrison County, Jackson County

Alabama: Baldwin County, Mobile County

Florida: Escambia County, Okaloosa County, Santa Rosa County, Walton County

Since the publication of the 60-day Federal Register Notice, DBS proposes to include the following modifications to the Gulf States Population Survey.

• Addition of a Spanish translation of the questionnaire.

• Minor modifications in the wording of some survey questions to improve respondent's understanding of the question.

• Extension of the sample area to the entirety of the four states (AL, FL, LA, MS), which will allow comparison of results from the Gulf Coast counties to non-Gulf Coast counties.

• Addition of cellular phones to the sampling frame. Extension of the sample area to the entirety of the four states (AL, FL, LA, MS) will allow DBS to sample cellular phone responses in addition to land-line telephones. This will improve the survey representativeness because those who have a cellular phone, but no land-line telephone, have a demographic profile that differs from those who do have land-line telephones.

The objective of the survey is to provide state health and mental health departments, SAMHSA, and other appropriate organizations data they need to assess the need for mental and behavioral health services in the selected counties and to inform the provision of those services.

The telephone survey will collect data from a random sample of telephone households which include landline and cellular phone telephones in the selected counties. Approximately 2,500 interviews will be completed each month in the targeted coastal areas and approximately 1,250 interviews will be completed in the comparison areas. Adults 18 years or older will be asked to take part in the survey, but only one adult per household will be interviewed. Potential respondents will be notified through an introductory script that participation is voluntary and they will not be compensated for participating. For those who agree to participate, interviews should last approximately 30 minutes.

Since the OMB emergency clearance for the DBS Gulf States Population Survey expires April 30, 2011, DBS is submitting and information collection request (ICR) to continue data collection for one year.

Preliminary data from the survey will be available to SAMHSA and participating states monthly (pending sample size). The final dataset and analyses will be provided to SAMHSA and participating states in January 2012.

There is no cost to respondents other than their time. The total estimated annual burden hours are 20,000.

Estimated Annualized Burden Hours
Respondents | Form | Group | Number of respondents | Number responses per respondent | Average burden per pesponse (in hours)
Individuals | GSPS | Coastal Counties | 30,000 | 1 | 30/60
|  | Comparison Group Counties | 10,000 | 1 | 30/60

Catina Conner,
Acting Reports Clearance Officer, Centers for Disease Control and Prevention.

[FR Doc. 2011-5294 Filed 3-8-11; 8:45 am]

BILLING CODE 4163-18-P